DEPARTMENT OF ENERGY

Federal Energy Regulatory Commission

[Docket No. RP97-374-005]

Northwest Pipeline Corporation; Notice of Negotiated Rates

March 10, 2004.

Take notice that on March 5, 2004, Northwest Pipeline Corporation (Northwest) tendered for filing as part of its FERC Gas Tariff, Third Revised Volume No. 1, Eighth Revised Sheet No. 375, to be effective April 5, 2004.

Northwest states that the purpose of this filing is to replace the shipper name Calpine Energy Services, L.P. (Calpine) with Goldendale Energy Center, LLC (Goldendale) on the list of negotiated rate service agreements contained in Northwest's Tariff. Northwest states that the shipper name is revised to reflect the assignment of Calpine's negotiated rate service agreement to Goldendale.

Northwest states that a copy of this filing has been served upon Northwest's customers and interested State regulatory commissions.

Any person desiring to be heard or to protest said filing should file a motion to intervene or a protest with the Federal Energy Regulatory Commission, 888 First Street, NE., Washington, DC 20426, in accordance with § 385.214 or § 385.211 of the Commission's rules and regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-595 Filed 3-15-04; 8:45 am]

BILLING CODE 6717-01-P